FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 24, 2003.

A. Federal Reserve Bank of Minneapolis (Richard M. Todd, Vice President and Community Affairs Officer) 90 Hennepin Avenue, Minneapolis, Minnesota 55480-0291:

1. Voting Trust Agreement, Apple Valley, Minnesota and its trustee, John Finch Woodhead, Minneapolis, Minnesota; to acquire voting shares of Financial Services of St. Croix Falls, Inc., St. Croix Falls, Wisconsin, and thereby indirectly acquire voting shares of Eagle Valley Bank, National Association, St. Croix, Falls, Wisconsin.

B. Federal Reserve Bank of Kansas City (James Hunter, Assistant Vice President) 925 Grand Avenue, Kansas City, Missouri 64198-0001:

1. Robert S. Moran, Jr., Testamentary Trust and Sue Jean Bernard Byrd, Trustee of the Robert S. Moran, Jr., Testamentary Trust, both of Hollis, Oklahoma, to retain control of the outstanding common stock of Great Plains Bancshares, Inc., Hollis, Oklahoma, and thereby indirectly retain voting shares of Great Plains National Bank, Elk City, Oklahoma.

Board of Governors of the Federal Reserve System, June 4, 2003.
Robert deV. Frierson,
Deputy Secretary of the Board.

[FR Doc. 03-14539 Filed 6-9-03; 8:45 am]

BILLING CODE 6210-01-S